DEPARTMENT OF AGRICULTURE

Forest Service

National Urban and Community Forestry Advisory Council

AGENCY: Forest Service, USDA.

ACTION: Notice of meeting.

SUMMARY: The National Urban and Community Forestry Advisory Council will meet in Washington, DC, June 2-3, 2010. The purpose of the meeting is to discuss emerging issues in urban and community forestry, work on Council administrative items and hear public input related to urban and community forestry.

DATES: The meeting will be held on June 2-3, 2010, from 9 a.m. to 5 p.m. or until Council business is completed.

ADDRESSES: The meeting will be held at the Hall of States Building, 444 North Capitol Street, NW., Room 283, Washington, DC 20001, phone: 202-624-5373. Written comments concerning this meeting should be addressed to Nancy Stremple, Executive Staff to National Urban and Community Forestry Advisory Council, 201 14th Street SW., Yates Building (1 Central) MS-1151, Washington, DC 20250-1151. Comments may also be sent via e-mail to nstremple@fs.fed.us, or via facsimile to 202-690-5792.

All comments, including names and addresses when provided, are placed in the record and are available for public inspection and copying. Visitors who would like to inspect the record are encouraged to call ahead to facilitate entry into the Forest Service building.

FOR FURTHER INFORMATION CONTACT: Mary Dempsey, Staff Assistant to National Urban and Community Forestry Advisory Council, 201 14th Street, SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: The meeting is open to the public. Those interested in attending should contact Mary Dempsey to be placed on the list at lobby security desk, Council discussion is limited to Forest Service staff and Council members; however, persons who wish to bring urban and community forestry matters to the attention of the Council may file written statements with the Council staff (201 14th Street SW., Yates Building (1 Central) MS-1151, Washington, DC 20250-1151, e-mail: nstremple@fs. fed.us) before or after the meeting. Public input sessions will be provided at the meeting. Public comments will be compiled and provided to the Secretary of Agriculture along with the Council's recommendations.

Dated: May 11, 2010.
Robin L. Thompson,
Associate Deputy Chief, State and Private Forestry.

[FR Doc. 2010-11836 Filed 5-17-10; 8:45 am]

BILLING CODE 3410-11-P